DEPARTMENT OF HEALTH AND HUMAN SERVICES

National Institutes of Health

National Institute of Mental Health; Notice of Meeting

Pursuant to section 10(a) of the Federal Advisory Committee Act, as amended (5 U.S.C. App.), notice is hereby given of a conference call/Webinar meeting of the Interagency Autism Coordinating Committee (IACC).

The IACC Full Committee will be having an open meeting conference call/Webinar on Friday, July 27, 2012. The committee will discuss and vote on the establishment of subcommittees, as well as discuss future IACC activities and public comments that were received at the July 10, 2012 IACC meeting. The meeting will be accessible by Webinar and conference call.

Name of Committee: Interagency Autism Coordinating Committee (IACC).

Type of meeting: Open Meeting Conference Call and Webinar.

Date: July 27, 2012.

Time: 10:00 a.m. to 2:00 p.m. *Eastern Time*—Approximate end time.

Agenda: The committee will discuss and vote on the establishment of subcommittees, and discuss future IACC activities and public comments that were received at the July 10, 2012 IACC meeting.

Place: Webinar and conference call only; No in-person meeting.

Webinar Access: https://www2.gotomeeting.com/register/732043378.

Conference Call: Dial: 800-857-7423 Access code: 8875622.

Cost: The conference call and Webinar is free.

Contact Person: Ms. Lina Perez, Office of Autism Research Coordination, National Institute of Mental Health, NIH, 6001 Executive Boulevard, NSC, Room 6182A, Rockville, MD 20852. Phone: (301) 443-6040. Email: IACCPublicInquiries@mail.nih.gov.

Please Note: The meeting will be open to the public and accessible via Webinar and conference call. Members of the public who participate using the conference call phone number will be able to listen to the meeting but will not be heard. If you experience any technical problems with the conference call, please-email IACCTechSupport@acclaroresearch.com or call the IACC Technical Support Help Line at 443-680-0098.

If you experience any technical problems with the Web presentation tool, please contact GoToWebinar at (800) 263-6317. To access the Web presentation tool on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended).

Accommodations Statement

Individuals who participate by using this electronic service and who need special assistance such as captioning or other reasonable accommodations should submit a request to the Contact Person listed on this notice at least 1 day prior to the meeting.

This meeting is being published less than 15 days prior to the meeting due to the urgent need of the committee to discuss committee structure, upcoming activities and emerging issues in the autism community.

Schedule subject to change.

Information about the IACC and a registration link for this meeting are available on the Web site: www.iacc.hhs.gov

Dated: July 20, 2012.
Carolyn A. Baum,
Program Analyst, Office of Federal Advisory Committee Policy.

[FR Doc. 2012-18192 Filed 7-25-12; 8:45 am]

BILLING CODE 4140-01-P